DEPARTMENT OF LABOR

Pension and Welfare Benefits Administration

Agency Information Collection Activities; Announcement of OMB Approval

AGENCY: Pension and Welfare Benefits Administration, Department of Labor.

ACTION: Notice.

SUMMARY: The Pension and Welfare Benefits Administration (PWBA) is announcing that a collection of information has been approved by the Office of Management and Budget (OMB) under the Paperwork Reduction Act of 1995 for the Application for EFAST Electronic Signature and Codes for EFAST Transmitters and Software Developers (Form EFAST-1). This notice announces the OMB approval number and expiration date.

FOR FURTHER INFORMATION CONTACT: Individuals with questions about the Form EFAST-1 or who need assistance in completing the Form EFAST-1 may call the EFAST Help Desk at (202) 219-8770. This is not a toll-free number. The Form EFAST-1 and instructions are available for viewing and downloading via the Department of Labor's Internet site (www.efast.dol.gov). Copies of the Form EFAST-1 and instructions may also be obtained by calling PWBA's Publication Hotline at 1-800-998-7542.

Address requests for copies of the information collection request (ICR) to Gerald B. Lindrew, U.S. Department of Labor, Pension and Welfare Benefits Administration, 200 Constitution Avenue, NW., Room N-5647, Washington, DC, 20210. Telephone: (202) 219-4782. This is not a toll-free number.

SUPPLEMENTARY INFORMATION: On March 9, 2000, PWBA published a notice concerning the submission of the proposed Application for EFAST Electronic Signature and Codes for EFAST Transmitters and Software Developers (65 FR 12577) under the Paperwork Reduction Act of 1995 (44 U.S.C. 3501 et seq.) and 5 CFR 1320. The Department submitted the information collection request included in Form EFAST-1 to OMB using emergency procedures and requested approval by March 24, 2000. On April 11, 2000, OMB approved the ICR under emergency provisions of the Paperwork Reduction Act of 1995. The approval will expire on August 31, 2000. The control number assigned to this ICR by OMB is 1210-0117.

The Form EFAST-1 that was available on PWBA's Internet website has now been revised to include the OMB control number. In addition , as a result of a comment receive by the Department, the Department has also made minor revisions to the Form EFAST-1 and the instructions. Additional issues raised in the comment will be reviewed with other comments received by the close of the comment period on May 8, 2000 as a part of the application for continuing approval of the ICR that will be submitted to OMB prior to the expiration of the emergency approval.

Under 5 CFR 1320.5(b), an Agency may not conduct or sponsor, and a person is not required to respond to, a collection of information unless the collection displays a valid control number. Accordingly, persons who wish to complete the Form EFAST-1 should obtain a copy of the Form EFAST-1 displaying the OMB contol number and including the recent revisions.

Dated: May 15, 2000.
Gerald B. Lindrew,
Deputy Director, Office of Policy and Research, Pension and Welfare Benefits Administration.

[FR Doc. 00-12666 Filed 5-18-00; 8:45 am]

BILLING CODE 4510-29-M